DEPARTMENT OF COMMERCE

National Oceanic and Atmospheric Administration

[RTID 0648-XB929]

Pacific Bluefin Tuna United States Stakeholder Meeting; Meeting Announcement

AGENCY: National Marine Fisheries Service (NMFS), National Oceanic and Atmospheric Administration (NOAA), Commerce.

ACTION: Notice of public meeting.

SUMMARY: NMFS announces a public meeting to discuss management of Pacific bluefin tuna (PBF). This meeting is intended to discuss both commercial and recreational management of PBF and is following up to meetings held on similar topics in 2019 and 2020. It is also intended to solicit input into development of an international long-term harvest strategy for PBF. The meeting topics are described under the SUPPLEMENTARY INFORMATION section of this notice.

DATES: The virtual meeting will be held on May 4, 2022, from 9:00 a.m. to 2:00 p.m. PDT (or until business is concluded). You must complete the registration process by April 26, 2022, if you plan to attend the meeting (see ADDRESSES). Members of the public may submit written comments on the meeting topics or materials to Celia Barroso at celia.barroso@noaa.gov by April 26, 2022, and may also provide oral comments during the virtual meeting.

ADDRESSES: If you plan to attend the meeting, which will be held by webinar, please register at https://forms.gle/KKR3Fo7cw1cLUoCt8. Instructions for attending the meeting will be emailed to meeting participants in advance of the meeting.

FOR FURTHER INFORMATION CONTACT: Celia Barroso, NMFS West Coast Region at celia.barroso@noaa.gov or 562-432-1850.

SUPPLEMENTARY INFORMATION: Stakeholders have expressed an interest in developing a long-term management framework for PBF. In September 2018, the Pacific Fishery Management Council (PFMC) recommended that its Highly Migratory Species Management Team develop a long-term management strategy for PBF (see the PFMC's “September 2018 Decision Summary Document” at https://www.pcouncil.org/documents/2018/09/september-2018-decision-document.pdf/). On May 2, 2019, NMFS held a stakeholder meeting in which participants discussed potential management objectives and strategies to achieve those objectives for the domestic commercial PBF fishery (see the NMFS report to the June 2019 PFMC meeting at https://www.pcouncil.org/documents/2019/06/agenda-item-j-2-b-supplemental-nmfs-report-3-pacific-bluefin-tuna-stakeholder-meeting-and-input-to-development-of-council-harvest-strategy.pdf). On May 19, 2020, NMFS hosted a virtual meeting facilitated by Kearns & West that focused on domestic implementation of an IATTC resolution (see the NMFS report to the June 2020 PFMC meeting at https://www.pcouncil.org/documents/2020/06/d-1-a-supplemental-nmfs-report-3.pdf). These meetings mainly discussed domestic management of PBF. NMFS is hosting a separate virtual meeting to discuss a long-term harvest strategy for PBF within the international arena on April 1, 2022 (87 FR 10175, February 23, 2022), and this May 4 meeting will provide an overview of that April 1 meeting in addition to following up to the 2019 and 2020 meetings held on domestic PBF management.

PBF U.S. Stakeholder Meeting Topics

The agenda for this meeting will be distributed to participants in advance of the meeting. The PBF U.S. stakeholder meeting topics may include, but are not limited to, the following: (1) An overview of international management of PBF and current domestic management of the U.S. PBF fishery, (2) future domestic management of commercial and recreational PBF; and (3) development of an international long-term harvest strategy.

Special Accommodations

Requests for sign language interpretation or other auxiliary aids should be indicated when registering for the meeting (see ADDRESSES) by April 26, 2022.

Authority: 16 U.S.C. 951 et seq., 16 U.S.C. 1801 et seq., and 16 U.S.C. 6901 et seq.

Dated: April 1, 2022.
Ngagne Jafnar Gueye,
Acting Director, Office of Sustainable Fisheries, National Marine Fisheries Service.

[FR Doc. 2022-07318 Filed 4-5-22; 8:45 am]

BILLING CODE 3510-22-P